DEPARTMENT OF THE INTERIOR

Bureau of Land Management

[ID-210-1220-MA]

Notice of Emergency Closure of Certain Public Lands to Motorized Vehicles in Twin Falls and Owyhee Counties, ID and Elko County, NV, Under Murphy Complex Emergency Stabilization and Rehabilitation Plan

AGENCY: Bureau of Land Management, Interior.

ACTION: Notice of Closure-Emergency/Safety.

SUMMARY: The Bureau of Land Management (BLM) Jarbidge Field Office is implementing an emergency closure in order to protect cultural and natural resources and stabilization treatments as recommended in the Department of the Interior's Emergency Stabilization and Rehabilitation Plan for the Murphy Complex Fire. The closure allows motorized vehicle traffic (e.g. All-Terrain Vehicles, pickups, motorcycles, sport utility vehicles, etc.) on established roads within the fire perimeter, legal boundaries and transportation routes (please refer to supplementary information for description of closure area). The purpose of the closure is to restrict off-road vehicle use while providing continued public access to and through the area. Vehicles traveling cross-country in a burned area may damage reemerging plants, increase erosion and spread noxious weeds. Closure signs will be posted at main entry points to this area. Maps of the closure area may be obtained at the address listed below.

DATES: This closure is effective upon publication in the Federal Register, and will remain in effect for two years from January 11, 2008. It may be lifted sooner if BLM determines that revegetation and stabilization efforts have resulted in successful re-growth of desired vegetation, as described below.

FOR FURTHER INFORMATION CONTACT: Max Yingst, Outdoor Recreation Planner, Jarbidge Field Office, Bureau of Land Management, 2536 Kimberly Road, Twin Falls, Idaho, 83301-7975, or call (208) 736-2362.

ADDRESSES: Copies of the closure and a map of the closed area may be obtained at the BLM, Jarbidge Field Office, 2536 Kimberly Road, Twin Falls, Idaho 83301, telephone (208) 736-2350.

SUPPLEMENTARY INFORMATION: In July 2007, the Murphy Complex Fire consumed 496,760 acres in the Idaho BLM Twin Falls District, Jarbidge Field Office. This closure order applies to approximately 510,477 acres of BLM lands and is considered an emergency situation to enhance protection of the resources involved. The Normal Fire Emergency Rehabilitation Plan (NFRP) Environmental Assessment, BLM, Lower Snake River District states: “Access within the [Emergency Stabilization and Rehabilitation] project area may be temporarily limited during the recovery period (e.g., access limited to existing roads and trails).” This order affects public lands in Owyhee and Twin Falls Counties, Idaho and Elko County, Nevada thus described:

Township 10S, Range 10E, sections 01, 02, 10-16, 20-29, 35, 36

Township 10S, Range 11E, sections 07-36

Township 10S, Range 12E, sections 07-11, 14-23, 25-36

Township 11S, Range 10E, sections 01, 02, 11-14, 23-26, 35, 36

Township 11S, Range 11E, all sections of BLM lands

Township 11S, Range 12E, sections 01-12, 14-23, 27-34

Township 12S, Range 07E, sections 25, 26, 32-36

Township 12S, Range 08E, section 31

Township 12S, Range 10E, sections 01 and 12

Township 12S, Range 11E, all sections of BLM lands

Township 12S, Range 12E, all sections of BLM lands

Township 13S, Range 06E, sections 13, 24, 25, and 36

Township 13S, Range 07E, 01-05, 07-36

Township 13S, Range 08E, sections 06, 07, 17-20, 28-36

Township 13S, Range 09E, sections 31-35

Township 13S, Range 11E, all sections of BLM lands

Township 13S, Range 12E, all sections of BLM lands

Township 13S, Range 13E, sections 18-21, 26-36

Township 14S, Range 06E, sections 01, 12, 13, and 24

Township 14S, Range 07E, sections 01-36

Township 14S, Range 08E, all sections of BLM lands

Township 14S, Range 09E, all sections of BLM lands

Township 14S, Range 10E, all sections of BLM lands

Township 14S, Range 11E, all sections of BLM lands

Township 14S, Range 12E, all sections of BLM lands

Township 14S, Range 13E, sections 01-31

Township 15S, Range 07E, sections 01-30, 32-36

Township 15S, Range 08E, all sections of BLM lands

Township 15S, Range 09E, all sections of BLM lands

Township 15S, Range 10E, sections 01-36

Township 15S, Range 11E, sections 01-36

Township 15S, Range 12E, sections 01-12, 14-23, 26-35

Township 15S, Range 13E, section 06

Township 16S, Range 07E, sections 01-05, 08-16, 21-28, 32-36

Township 16S, Range 08E, all sections of BLM lands

Township 16S, Range 09E, sections 01-21, 24, 25, 28-32

Township 16S, Range 10E, sections 03-09, 17-20, 30

Township 16S, Range 11E, sections 01-03, 11-13

Township 16S, Range 12E, sections 02-11, 14-23

Township 16S, Range 13E, sections 11-16, 21-28

Township 16S, Range 14E, sections 05-08, 18, 19, 29, 30

Township 47N, Range 56E, sections 01-04, 08-17, 20-29, 33, 34

Township 47N, Range 57E, sections 01-13, 16-21

Township 47N, Range 58E, sections 04-09, 18

BLM lands per county (acres):

Elko County, NV—18,631

Owyhee County, ID—435,968

Twin Falls County, ID—55,878

A total of approximately 510,477 acres.

The closure does not apply to authorized vehicles, rescue vehicles, BLM operation and maintenance vehicles, resource management activities, or use by fire and law enforcement vehicles. In addition, access to private property by property owners may be authorized by the BLM Field Manager. Nothing in this closure is intended to affect legal hunting as consistent with Idaho Department of Fish and Game regulations; however there will be no exceptions granted for cross country travel.

Under section 303(a) of the Federal Land Policy and Management Act of 1976 (43 U.S.C. 1733(a) and 43 CFR 8360-7), if you violate this closure on public land within the boundaries established, you may be tried before a United States Magistrate and fined no more than $1,000 or imprisoned for no more than 12 months, or both. Such violations may also be subject to the enhanced fines provided by Title 18 U.S.C. 3571.

Conditions for Ending Closure: Soil stabilization and revegetation treatments will be considered successful, if and when the following occur:

1. Slopes and soils show signs of stabilization and have not experienced slope failure through at least one winter season.

2. Re-growth of vegetation has sufficiently obscured cultural sites exposed by the fire.

3. Seeding treatments on burned areas are successfully established.

Authority: 43 CFR 8364.1 and 43 CFR 8341.2

Rick Vander Voet,
Jarbidge Field Office Manager, Idaho Bureau of Land Management.

[FR Doc. E8-306 Filed 1-10-08; 8:45 am]

BILLING CODE 4310-GG-P